DEPARTMENT OF COMMERCE

International Trade Administration

[A-427-602, A-428-602, A-475-601, A-588-704]

Brass Sheet and Strip From France, Germany, Italy, and Japan: Final Results of the Expedited Fifth Sunset Review of the Antidumping Duty Orders

AGENCY: Enforcement and Compliance, International Trade Administration, Department of Commerce.

SUMMARY: As a result of these expedited sunset reviews, the U.S. Department of Commerce (Commerce) finds that revocation of the antidumping duty (AD) orders on brass sheet and strip from France, Germany, Italy and Japan would be likely to lead to continuation or recurrence of dumping at the levels indicated in the “Final Results of Reviews” section of this notice.

DATES: Applicable January 3, 2023.

FOR FURTHER INFORMATION CONTACT: Whitley Herndon, AD/CVD Operations, Office V, Enforcement and Compliance, International Trade Administration, U.S. Department of Commerce, 1401 Constitution Avenue NW, Washington, DC 20230; telephone: (202)-482-6274.

SUPPLEMENTARY INFORMATION:

Background

On September 1, 2022, Commerce published the notice of initiation of the fifth sunset review of the AD orders on brass sheet and strip from France, Germany, Italy, and Japan ¹ pursuant to section 751(c) of the Tariff Act of 1930, as amended (the Act).²

¹ See Antidumping Order: Brass Sheet and Strip from France, 52 FR 6995 (March 6, 1987); Final Determination of Sales at Less Than Fair Value and Amendment to Antidumping Duty Order: Brass Sheet and Strip from the Federal Republic of Germany, 52 FR 35750 (September 23, 1987), amended in Final Determination of Sales at Less Than Fair Value and Amendment to Antidumping Duty Order: Brass Sheet and Strip from the Federal Republic of Germany, 52 FR 35750 (September 23, 1987); Antidumping Duty Order: Brass Sheet and Strip from Italy, 52 FR 6997 (March 6, 1987), amended in Amendment to Final Determination of Sales of Less Than Fair Value and Amendment of Antidumping Duty Order in Accordance with Decision Upon Remand: Brass Sheet and Strip from Italy, 56 FR 23272 (May 21, 1991) (Italy Amended Order); and Antidumping Duty Order of Sales at Less than Fair Value: Brass Sheet and Strip from Japan, 53 FR 30454 (August 12, 1988) (collectively, Orders).

² See Initiation of Five-Year (Sunset) Reviews, 87 FR 53727 (September 1, 2022) (Notice of Initiation).

On September 16, 2022, Aurubis Buffalo, Inc., Heyco Metals, Inc., PMX Industries Inc., and Wieland Holdings Inc. (collectively, the domestic interested parties) notified Commerce of their intent to participate within the 15-day period specified in 19 CFR 351.218(d)(1)(i).³ The domestic interested parties claimed interested party status under section 771(9)(C) of the Act as producers of domestic like product in the United States.

³ See Domestic Interested Parties' Letters, “Five-Year (“Sunset”) Review of Antidumping Duty Order on Brass Sheet and Strip from France—Notice of Intent to Participate,” dated September 16, 2022; “Five-Year (“Sunset”) Review of Antidumping Duty Order on Brass Sheet and Strip from France—Amendment to Notice of Intent to Participate,” dated September 29, 2022; “Five-Year (“Sunset”) Review of Antidumping Duty Order on Brass Sheet and Strip from Germany—Notice of Intent to Participate,” dated September 16, 2022; “Five-Year (“Sunset”) Review of Antidumping Duty Order on Brass Sheet and Strip from Germany—Amendment to Notice of Intent to Participate,” dated September 29, 2022; “Five-Year (“Sunset”) Review of Antidumping Duty Order on Brass Sheet and Strip From Italy—Notice of Intent to Participate,” dated September 16, 2022; “Five-Year (“Sunset”) Review of Antidumping Duty Order on Brass Sheet and Strip from Italy—Amendment to Notice of Intent to Participate,” dated September 29, 2022; “Five-Year (“Sunset”) Review of Antidumping Duty Order on Brass Sheet and Strip from Japan—Notice of Intent to Participate,” dated September 16, 2022; and “Five-Year (“Sunset”) Review of Antidumping Duty Order on Brass Sheet and Strip from Japan—Amendment to Notice of Intent to Participate,” dated September 29, 2022.

On October 3, 2022, Commerce received complete substantive responses to the Notice of Initiation with respect to the Orders from the domestic interested parties within the 30-day period specified in 19 CFR 351.218(d)(3)(i).⁴ Commerce did not receive a substantive response from any other interested parties with respect to the Orders covered by these sunset reviews. On October 25, 2022, Commerce notified the U.S. International Trade Commission that it did not receive an adequate substantive response from respondent interested parties in any of these sunset reviews.⁵ As a result, pursuant to section 751(c)(3)(8) of the Act and 19 CFR 351.218(e)(1)(ii)(C)(2), Commerce conducted expedited (120-day) sunset reviews of the Orders.

⁴ See Domestic Interested Parties' Letters, “Fifth Sunset Review of the Antidumping Duty Order on Brass Sheet and Strip from France: Substantive Response to Notice of Initiation,” dated October 3, 2022; “Fifth Sunset Review of the Antidumping Duty Order on Brass Sheet and Strip from Germany: Substantive Response to Notice of Initiation,” dated October 3, 2022; “Fifth Sunset Review of the Antidumping Duty Order on Brass Sheet and Strip from Italy: Substantive Response to Notice of Initiation,” dated October 3, 2022; and “Fifth Sunset Review of the Antidumping Duty Order on Brass Sheet and Strip Shrimp from Japan: Substantive Response to Notice of Initiation,” dated October 3, 2022.

⁵ See Commerce's Letter, “Sunset Reviews Initiated on September 1, 2022,” dated October 25, 2022.

Scope of the Orders

The scope of the Orders is brass sheet and strip from France, Germany, Italy, and Japan. For a complete description of the scope of the Orders, see Appendix II to this notice.

Analysis of Comments Received

A complete discussion of all issues raised in these sunset reviews is provided in the accompanying Issues and Decision Memorandum.⁶ A list of the issues discussed in the Issues and Decision Memorandum is attached at Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁶ See Memorandum, “Issues and Decision Memorandum for the Final Results of the Expedited Fifth Sunset Reviews of the Antidumping Duty Orders on Brass Sheet and Strip from France, Germany, Italy, and Japan,” dated concurrently with, and hereby adopted by, this notice (Issues and Decision Memorandum).

Final Results of Sunset Reviews

Pursuant to sections 751(c)(1) and 752(c)(1) and (3) of the Act, Commerce determines that revocation of the Orders would likely lead to a continuation or recurrence of dumping and that the magnitude of the dumping margins likely to prevail would be weighted-average margins up to 42.24 percent for France, up to 55.60 percent for Germany, up to 22.00 percent for Italy, and up to 57.98 percent for Japan.

Administrative Protective Order

This notice serves as the only reminder to parties subject to an administrative protective order (APO) of their responsibility concerning the return/destruction or conversion to judicial protective order of proprietary information disclosed under APO in accordance with 19 CFR 351.305. Timely notification of the return or destruction of APO materials or conversion to judicial protective order is hereby requested. Failure to comply with the regulations and terms of an APO is a sanctionable violation.

Notification to Interested Parties

We are issuing and publishing the results in accordance with sections 751(c), 752(c), and 771(i)(1) of the Act and 19 CFR 351.218(e)(1)(ii)(C)(2).

Dated: December 22, 2022.
Lisa W. Wang,
Assistant Secretary for Enforcement and Compliance.

Appendix I

List of Topics Discussed in the Issues and Decision Memorandum

I. Summary

II. Background

III. History of the Orders

IV. Legal Framework

V. Discussion of the Issues

1. Likelihood of Continuation or Recurrence of Dumping

2. Magnitude of the Margins of Dumping Likely to Prevail

VI. Final Results of Sunset Reviews

VII. Recommendation

Appendix II

Scope of the Orders

The product covered by the Orders is brass sheet and strip, other than leaded and tinned brass sheet and strip, from France, Germany, Italy, and Japan. The chemical composition of the covered product is currently defined in the Copper Development Association (“C.D.A.”) 200 Series or the Unified Numbering System (“U.N.S.”) C2000.

The Orders do not cover products the chemical compositions of which are defined by other C.D.A. or U.N.S. series. In physical dimensions, the product covered by the Orders has a solid rectangular cross section over 0.006 inches (0.15 millimeters) through 0.188 inches (4.8 millimeters) in finished thickness or gauge, regardless of width. Coiled, wound-on-reels (traverse wound), and cut-to-length products are included.

The merchandise is currently classified under Harmonized Tariff Schedule of the United States (“HTSUS”) item numbers 7409.21.00 and 7409.29.00.

Although the HTSUS item numbers are provided for convenience and customs purposes, the written description of the scope of the Orders remains dispositive.

[FR Doc. 2022-28475 Filed 12-30-22; 8:45 am]

BILLING CODE 3510-DS-P